NATIONAL ARCHIVES AND RECORDS ADMINISTRATION

[NARA-2019-014]

Agency Information Collection Activities: Submission for OMB Review; Comment Request; Correction

AGENCY: National Archives and Records Administration (NARA).

ACTION: Notice; correction.

SUMMARY: NARA published a document in the Federal Register on February 12, 2019, notifying the public that we have submitted to OMB a request to renew the information collections 3095-0037 (forms relating to civilian service records) and 3095-0060 (volunteer service application), and soliciting comments on them. The document contained incorrect numbers of respondents and annual hours for 3095-0037.

FOR FURTHER INFORMATION CONTACT: Tamee Fechhelm by phone at 301-837-1694 or by fax at 301-837-0319.

SUPPLEMENTARY INFORMATION: In the Federal Register of February 12, 2019 (84 FR 3502), on page 3502 near the top of the third column, correct the “Estimated number of respondents” to read 20,800, and correct the “Estimated total annual burden hours” to read 1,733.

Swarnali Haldar,
Executive for Information Services/CIO.

[FR Doc. 2019-02812 Filed 2-19-19; 8:45 am]

BILLING CODE 7515-01-P